DEPARTMENT OF COMMERCE

Foreign-Trade Zones Board;

[Docket 41-2000]

Foreign-Trade Zone 82—Mobile, AL Expansion of Manufacturing Authority—Subzone 82E, Zeneca Inc. (Agricultural Chemical Products), Mobile County, AL

An application has been submitted to the Foreign-Trade Zones Board (the Board) by the City of Mobile, Alabama, grantee of FTZ 82, requesting on behalf of Zeneca, Inc. (Zeneca), to expand the scope of manufacturing authority under zone procedures within Subzone 82E, at the Zeneca plant in Mobile County, Alabama. The application was submitted pursuant to the Foreign-Trade Zones Act, as amended (19 U.S.C. 81a-81u), and the regulations of the Board (15 CFR part 400). It was formally filed on July 21, 2000.

The Zeneca facility (75 acres; 250 employees) is located at mile marker 21 on Highway 43, near Bucks (Mobile County), Alabama, some 20 miles north of Mobile. The facility is used to produce and/or distribute a wide range of agricultural chemical products, including herbicides, pesticides, insecticides and organic intermediate chemicals.

Zeneca is now proposing to expand the scope of manufacturing activity conducted under zone procedures at Subzone 82E to include the agricultural chemical Mesotrione (a broadleaf herbicide), which currently has a duty rate of 8.9%. Foreign-sourced inputs for this production would be Nitromethylsulfonyl benzoic acid (9.3% duty rate) and Cyclohexandione (4.8% duty rate). Zeneca indicates that initial U.S. value added will be 40 percent of finished product's value, with subzone savings equivalent to one percent of the finished product's value.

Zone procedures would exempt Zeneca from Customs duty payments on foreign components used in production for export (anticipated to be 30% of total production). On its domestic sales, Zeneca would be able to choose the 8.9 percent duty rate that applies to the finished product for the foreign input with the 9.3 percent duty rate (noted above). Zeneca would be able to avoid duty on foreign inputs which become scrap/waste, estimated at 10 percent of imported inputs. The application indicates that the savings from zone procedures would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is October 2, 2000. Rebuttal comments in response to material submitted during the foregoing period may be submitted during the subsequent 15-day period to October 16, 2000.

A copy of the application and the accompanying exhibits will be available for public inspection at each of the following locations:

Office of the Executive Secretary, Foreign-Trade Zones Board, U.S. Department of Commerce, Room 3716, 14th and Pennsylvania Avenue, NW., Washington, DC 20230

U.S. Department of Commerce Export Assistance Center, 365 Canal Street, Suite 1170 (One Canal Place), New Orleans, LA 70130

Dated: July 24, 2000.
Dennis Puccinelli,
Acting Executive Secretary.

[FR Doc. 00-19557 Filed 8-1-00; 8:45 am]

BILLING CODE 3510-DS-P